ENVIRONMENTAL PROTECTION AGENCY

[FRL-6874-2]

Agency Information Collection Activities; EPA ICR No. 1204.08; Submission to OMB; Additional Opportunity to Comment

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Submission of Unreasonable Effects Information Under FIFRA Section 6(a)(2) (EPA No. 1204.08; OMB No. 2070-0039). The ICR, which is abstracted below, describes the nature of the information collection activity and its expected burden and costs. The Federal Register document required under 5 CFR 1320.8(d), soliciting comments on this collection of information was published on March 8, 2000 (65 FR. 12227). EPA did not receive any comments on this ICR during the comment period.

DATES: Additional comments may be submitted on or before October 23, 2000.

ADDRESSES: Send your comments, referencing the proper ICR numbers, to: Ms. Sandy Farmer, U.S. Environmental Protection Agency, Office of Environmental Information, Collection Strategies Division (2822), 1200 Pennsylvania Ave., NW, Washington, DC 20460; and a copy of your comments to: Office of Information and Regulatory Affairs, Office of Management and Budget (OMB), Attention: Desk Officer for EPA, 725 17th Street NW., Washington, DC 20503.

FOR FURTHER INFORMATION CONTACT: Sandy Farmer at EPA by phone on 202-260-2740, by e-mail: farmer.sandy@epa.gov, or by mail at the address below. You may also access the ICR at http://www.epa.gov/icr/icr.htm. Refer to EPA ICR No. 1204.08 or OMB Control No. 2070-0039.

SUPPLEMENTARY INFORMATION: Title: Submission of Unreasonable Adverse Effects Information Under FIFRA Section 6(a)(2) (EPA ICR No. 1204.08, OMB No. 2070-0039).

Request: This is a request to extend an existing approved collection, currently scheduled to expire on September 30, 2000. Under 5 CFR 1320.10(e)(2), the Agency may continue to conduct or sponsor the collection of information while the submission is pending at OMB.

Abstract: This ICR covers the requirements under section 6(a)(2) of the Federal Insecticide, Fungicide and Rodenticide Act (FIFRA) for pesticide registrants to submit information to the Agency which may be relevant to the balancing of the risks and benefits of a pesticide product. On September 19, 1997 the Agency published final regulations in the Federal Register (62 FR 49370) that provided a detailed description of the reporting obligations of registrants under FIFRA section 6(a)(2). The regulations became effective on the deferred date of August 17, 1998 (63 FR 41192). There are no forms associated with this collection.

An Agency may not conduct or sponsor, and a person is not required to respond to a collection of information that is subject to approval under the Paperwork Reduction Act, unless it displays a currently valid OMB control number. The OMB control numbers for EPA's information collections appear on the collection instruments (i.e., form or instructions), in the Federal Register notices for related rulemakings and ICR notices, and, if the collection is contained in a regulation, in a table of OMB approval numbers in 40 CFR part 9.

Burden Statement: The total annual public burden for this collection of information is estimated to be 166,266 hours. Under the PRA, “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of the information collection activity and the corresponding burden estimate, which is only briefly summarized here.

Respondents/affected entities: Pesticide Registrants, identified by the North American Industrial Classification System (NAICS) code as 325320 (Pesticide and Other Agricultural Chemical Manufacturing).

Estimated total annual number of potential responses: 260.

Frequency of response: As necessary, when applicable information is available to respondent.

Estimated total number of responses for each respondent: 1 to 3.

Estimated total annual burden: 166,266 hours.

Estimated total annual non-labor costs: $0.

Changes in the ICR Since the Last Approval: The total burden associated with this ICR has increased 45,504 hours, from 120,762 hours in the previous ICR to 166,266 hours for this ICR. This change reflects several adjustments to the ICR calculations which are described in detail in the ICR.

According to the procedures prescribed in 5 CFR 1320.12, EPA has submitted this ICR to OMB for review and approval. Any comments related to the renewal of this ICR should be submitted within 30 days of this notice, as described above.

Dated: September 15, 2000.
Oscar Morales,
Director, Collection Strategies Division.

[FR Doc. 00-24311 Filed 9-20-00; 8:45 am]

BILLING CODE 6560-50-P